DEPARTMENT OF HOMELAND SECURITY

Coast Guard

[USCG-2004-16894]

Great Lakes Pilotage Advisory Committee

AGENCY: Coast Guard, DHS.

ACTION: Notice of meeting.

SUMMARY: The Great Lakes Pilotage Advisory Committee (GLPAC) will meet to discuss various issues relating to pilotage on the Great Lakes. The meeting will be open to the public.

DATES: The GLPAC will meet on Thursday, January 29, 2004, from 8 a.m. to 4:30 p.m. The annual public workshop will be held from 3 to 4:30 p.m. as part of the GLPAC meeting. The meeting and public workshop may close early if all business is finished. Written material and requests to make oral presentations should reach the Coast Guard on or before January 26, 2004. Requests to have a copy of your material distributed to each member of the committee should reach the Coast Guard on or before January 26, 2004.

ADDRESSES: GLPAC will meet in Room B-1 of the Anthony J. Celebrezze Federal Building at 1240 East Ninth Street, Cleveland, OH 44199-2060. Send written material and requests to make oral presentations to Margie Hegy, Commandant (G-MW), U.S. Coast Guard Headquarters, 2100 Second Street, SW., Washington, DC 20593-0001. This notice is available on the Internet at http://dms.dot.gov.

FOR FURTHER INFORMATION CONTACT: Margie Hegy, Executive Director of GLPAC, telephone 202-267-0415, fax 202-267-4700.

SUPPLEMENTARY INFORMATION: Notice of the meeting is given under the Federal Advisory Committee Act, 5 U.S.C. App. 2.

Agenda of Meeting

The agenda includes the following:

(1) Discussion on Maintaining Required Services under Declining Business Conditions.

(2) Report from the Director of Great Lakes Pilotage.

(3) Discussion on whether the Maximum Civil Penalty for Failure to Open a Bridge is Adequate.

(4) Update on Availability of Information on Water Depths at Private Berths.

(5) Pilotage Capital Improvement Programs.

(6) Discussion of Partial Rate Adjustment for Pilotage on the Great Lakes.

(7) Open workshop for public comments/questions on the Coast Guard's Great Lakes Pilotage Program.

Procedural

The meetings are open to the public. Please note that the meetings may close early if all business is finished. At the Chair's discretion, members of the public may make oral presentations during the meeting. If you would like to make an oral presentation at the meeting, please notify the Executive Director no later than January 26, 2004. Written material for distribution at the meeting should reach the Coast Guard no later than January 26, 2004. If you would like a copy of your material distributed to each member of the committee in advance of the meeting, please submit 10 copies to Margie Hegy at the address in the ADDRESSES section no later than January 21, 2004.

Information on Services for Individuals With Disabilities

For information on facilities or services for individuals with disabilities or to request special assistance at the meeting, contact the Executive Director as soon as possible.

Dated: January 9, 2004.
L.L. Hereth,
Rear Admiral, U.S. Coast Guard, Acting Assistant Commandant for Marine Safety, Security, and Environmental Protection.

[FR Doc. 04-912 Filed 1-12-04; 2:31 pm]

BILLING CODE 4910-15-P